DEPARTMENT OF AGRICULTURE

Agricultural Marketing Service

[Doc. No. AMS-LP-23-0056]

Request for Extension and Revision of a Currently Approved Information Collection

AGENCY: Agricultural Marketing Service, USDA.

ACTION: Notice; request for comments.

SUMMARY: In accordance with the Paperwork Reduction Act of 1995, this notice announces the Agricultural Marketing Service's (AMS) intent to request approval from the Office of Management and Budget (OMB), for an extension of and revision to the currently approved information collection used in support of Audit Verification Programs.

DATES: Comments must be submitted on or before January 19, 2024 to be assured of consideration.

ADDRESSES: Interested persons are invited to submit comments concerning this notice by using the electronic process available at https://www.regulations.gov. Written comments may also be submitted to Quality Assessment Division; Livestock and Poultry Program; Agricultural Marketing Service, USDA; 1400 Independence Avenue SW, Stop 0258; Washington, DC 20250-0258. All comments should reference the docket number AMS-LP-23-0056, the date of submission, and the page number of this issue of the Federal Register. All comments received will be posted without change, including any personal information provided and will be made available for public inspection at https://www.regulations.gov and the above physical address during regular business hours.

FOR FURTHER INFORMATION CONTACT: Jeff Waite, Branch Chief, Quality Assessment Division; Phone: (202) 309-1096; or Email Jeff.Waite@usda.gov.

SUPPLEMENTARY INFORMATION:

Title: List of U.S. Manufacturers of Specific CVM-Regulated Products with Interest in Exporting Covered Products to China.

OMB Number: 0581-0339.

Expiration Date of Approval: March 31, 2024.

Type of Request: Extension of a currently approved information collection.

Abstract: The Agricultural Marketing Act of 1946 (AMA) (7 U.S.C. 1621-1627) as amended directs and authorizes the U.S. Department of Agriculture (USDA) to provide inspection, certification, and verification services of the quality and condition of agricultural products which facilitate the marketing of agricultural products. To provide programs and services, section 203(h) of the AMA (7 U.S.C. 1622(h)) directs and authorizes the Secretary of Agriculture to inspect, certify, and verify agricultural products under such rules and regulations as the Secretary may prescribe, including assessment and collection of fees for the cost of service. The regulation in 7 CFR 62—AMS Audit Verification and Accreditation Programs is a collection of voluntary, audit-based, user-fee funded verification programs that allow applicants to have program documentation and program processes assessed by AMS auditor(s) and other USDA officials.

Because this is a voluntary program, respondents request or apply for the specific service they wish, and in doing so, they provide information. The information collected is used only by authorized representatives of USDA (AMS, Livestock and Poultry Program's QAD auditing staff) and is used to conduct services requested by respondents. Information collected includes but is not limited to facility name, address, and identifier, and product.

The information collection requirements in this request are essential to carry out the intent of the AMA, to provide the respondents the type of service they request, and to administer the program.

Estimate of Burden: Public reporting burden for this collection of information is estimated to average 0.083 hours per response.

Respondents: Manufacturing/processing facilities.

Estimated Number of Respondents: 85.

Estimated Number of Responses per Respondent: 3.

Estimated Total Annual Responses: 255.

Estimated Total Annual Burden on Respondents: 21.2 hours.

Comments are invited on: (1) whether the proposed collection of information is necessary for the proper performance of the functions of AMS, including whether the information will have practical utility; (2) the accuracy of AMS' estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology.

All responses to this notice will be summarized and included in the request for OMB approval. All comments will become a matter of public record, including any personal information provided.

Melissa Bailey,
Associate Administrator, Agricultural Marketing Service.

[FR Doc. 2023-25562 Filed 11-17-23; 8:45 am]

BILLING CODE P